ENVIRONMENTAL PROTECTION AGENCY

[FRL-11123-01-OA]

Public Meeting of the Chartered Clean Air Scientific Advisory Committee (CASAC) and CASAC Oxides of Nitrogen, Oxides of Sulfur, and Particulate Matter Secondary National Ambient Air Quality Standards (NAAQS) Panel

AGENCY: Environmental Protection Agency (EPA).

ACTION: Notice.

SUMMARY: The Environmental Protection Agency (EPA) Science Advisory Board (SAB) Staff Office announces a public meeting of the Chartered Clean Air Scientific Advisory Committee (CASAC) and CASAC Oxides of Nitrogen, Oxides of Sulfur, and Particulate Matter Secondary National Ambient Air Quality Standards (NAAQS) Panel, hereafter, referred to as the CASAC NOX/SOX/PM Panel to discuss a draft CASAC report on EPA's Policy Assessment (PA) for the Review of the Secondary National Ambient Air Quality Standards for Oxides of Nitrogen, Oxides of Sulfur and Particulate Matter, External Review Draft.

DATES: The Chartered CASAC and CASAC Oxides of Nitrogen, Oxides of Sulfur, and Particulate Matter Secondary National Ambient Air Quality Standards (NAAQS) Panel will meet on the following dates. All times listed are in Eastern Time.

1. September 5, 2023, from 11:00 a.m. to 3:00 p.m.

2. September 6, 2023, from 11:00 a.m. to 3:00 p.m.

ADDRESSES: The meeting will be conducted virtually. Please refer to the CASAC website at https://casac.epa.gov for details on how to access the meeting.

FOR FURTHER INFORMATION CONTACT: Any member of the public wishing further information regarding this notice may contact Mr. Aaron Yeow, Designated Federal Officer (DFO), SAB Staff Office, by telephone at (202) 564-2050 or via email at yeow.aaron@epa.gov. General information concerning the CASAC, as well as any updates concerning the meetings announced in this notice can be found on the CASAC website: https://casac.epa.gov.

SUPPLEMENTARY INFORMATION:

Background: The CASAC was established pursuant to the Clean Air Act (CAA) Amendments of 1977, codified at 42 U.S.C. 7409(d)(2), to review air quality criteria and NAAQS and recommend to the EPA Administrator any new NAAQS and revisions of existing criteria and NAAQS as may be appropriate. The CASAC shall also: advise the EPA Administrator of areas in which additional knowledge is required to appraise the adequacy and basis of existing, new, or revised NAAQS; describe the research efforts necessary to provide the required information; advise the EPA Administrator on the relative contribution to air pollution concentrations of natural as well as anthropogenic activity; and advise the EPA Administrator of any adverse public health, welfare, social, economic, or energy effects which may result from various strategies for attainment and maintenance of such NAAQS. As amended, 5 U.S.C., App. Section 109(d)(1) of the Clean Air Act (CAA) requires that EPA carry out a periodic review and revision, as appropriate, of the air quality criteria and the NAAQS for the six “criteria” air pollutants, including oxides of nitrogen, oxides of sulfur, and PM.

The CASAC is a Federal Advisory Committee chartered under the Federal Advisory Committee Act (FACA), 5 U.S.C., app. 2, and conducts business in accordance with FACA and related regulations. The CASAC and the CASAC NOX/SOX/PM Panel will comply with the provisions of FACA and all appropriate SAB Staff Office procedural policies. Pursuant to FACA and EPA policy, notice is hereby given that the Chartered CASAC and NOX/SOX/PM Panel will hold a public meeting to discuss a draft CASAC report on EPA's PA.

Technical Contacts: Any technical questions concerning EPA's PA should be directed to Ms. Ginger Tennant (tennant.ginger@epa.gov).

Availability of Meeting Materials: Prior to the meeting, the review documents, agenda and other materials will be accessible on the CASAC website: https://casac.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments on the topic of this advisory activity, including the charge to the CASAC and the EPA review documents, and/or the group conducting the activity, for the CASAC to consider as it develops advice for EPA. Input from the public to the CASAC will have the most impact if it provides specific scientific or technical information or analysis for CASAC to consider or if it relates to the clarity or accuracy of the technical information. Members of the public wishing to provide comment should follow the instructions below to submit comments.

Oral Statements: Individuals or groups requesting an oral presentation during the public meeting will be limited to three minutes. Each person making an oral statement should consider providing written comments as well as their oral statement so that the points presented orally can be expanded upon in writing. Interested parties should contact Mr. Aaron Yeow, DFO, in writing (preferably via email) at the contact information noted above by August 29, 2023, to be placed on the list of public speakers.

Written Statements: Written statements will be accepted throughout the advisory process; however, for timely consideration by CASAC members, statements should be supplied by August 29, 2023. Written statements should be supplied to the DFO at the contact information above via email. Submitters are requested to provide an unsigned version. Members of the public should be aware that their personal contact information if included in any written comments, may be posted to the SAB website. Copyrighted material will not be posted without the explicit permission of the copyright holder.

Accessibility: For information on access or services for individuals with disabilities, please contact Mr. Aaron Yeow at (202) 564-2050 or yeow.aaron@epa.gov. To request accommodation of a disability, please contact the DFO, at the contact information noted above, preferably at least ten days prior to each meeting, to give EPA as much time as possible to process your request.

V. Khanna Johnston,
Deputy Director, Science Advisory Board Staff Office.

[FR Doc. 2023-15036 Filed 7-14-23; 8:45 am]

BILLING CODE 6560-50-P